DEPARTMENT OF HEALTH AND HUMAN SERVICES

Office of the National Coordinator for Health Information Technology; American Health Information Community Confidentiality, Privacy and Security Workgroup Meeting

ACTION: Announcement of meeting.

SUMMARY: This notice announces the fifth meeting of the American Health Information Community Confidentiality, Privacy and Security Workgroup in accordance with the Federal Advisory Committee Act (Pub. L. 92-463, 5 U.S.C., App.)

DATES: November 13, 2006, from 1 p.m. to 4 p.m.

ADDRESSES: Mary C. Switzer Building (330 C Street, SW., Washington, DC 20201), Conference Room 4090 (please bring photo ID for entry to a Federal building).

FOR FURTHER INFORMATION CONTACT: http://www.hhs.gov/healthit/ahic/cps_main.html.

SUPPLEMENTARY INFORMATION: Workgroup members will continue to discuss the issues surrounding identity proofing and user authentication in preparation for the December 12th American Health Information Community meeting.

The meeting will be available via Web cast at http://www.hhs.gov/healthit/ahic/cps_instruct.html.

Dated: October 17, 2006.
Judith Sparrow,
Director, American Health Information Community, Office of Programs and Coordination, Office of the National Coordinator for Health Information Technology.

[FR Doc. 06-8859 Filed 10-24-06; 8:45 am]

BILLING CODE 4150-24-M